DEPARTMENT OF COMMERCE

Census Bureau

Survey of Building and Zoning Permit Systems

ACTION: Proposed collection; comment request

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 15, 2001.

ADDRESSES: Direct all written comments to Madeleine Clayton, Departmental Paperwork Clearance Officer, Department of Commerce, Room 6086, 14th and Constitution Avenue, NW, Washington, DC 20230 (or via the Internet at MClayton@doc.gov).

FOR FURTHER INFORMATION CONTACT: Requests for additional information or copies of the information collection instrument(s) and instructions should be directed to G. Daniel Sansbury, Census Bureau, Room 2105, FOB 4, Washington, DC 20233-6900, (301) 457-1321 (or via the Internet at g.daniel.sansbury@census.gov).

SUPPLEMENTARY INFORMATION:

I. Abstract

The Census Bureau produces statistics used to monitor activity in the large and dynamic construction industry. These statistics help state and local governments and the Federal Government, as well as private industry, to analyze this important sector of the economy. The accuracy of the Census Bureau statistics regarding the amount of construction authorized depends on data supplied by building and zoning officials throughout the country.

The Census Bureau uses Form C-411 to obtain information from state and local building permit officials needed for updating the universe of permit-issuing places. The questions pertain to the legal requirements for issuing building or zoning permits in the local jurisdictions. Information is obtained on such items as geographic coverage and types of construction for which permits are issued.

The universe of permit-issuing places is the sampling frame for the Building Permits Survey (BPS) and the Survey of Construction. These two sample surveys provide widely used measures of construction activity, including the economic indicators, Housing Units Authorized by Building Permits and Housing Starts.

We plan to make the following changes to the form:

a. Delete two questions:

(1) “What kind of permits does your office issue?” and

(2) “When did your government first begin issuing permits?”

The first question asked for the same information as another question. We no longer need the information requested in the second question.

Add two questions:

(1) “If the jurisdiction listed in Section A.1 is a county, does your office issue permits for portions of jurisdictions located in other counties?” and

(2) “If the jurisdiction listed in Section A.1 is a city, town, village, borough or township, is it in more than one county?”

We plan to request information about permits issued for new residential additions and alterations of buildings.

We need the above information to ensure that we update our universe of permit-issuing places correctly for these types of places.

II. Method of Collection

The form is sent to a jurisdiction when the Census Bureau has reason to believe that a new permit system has been established or an existing one has changed, based on information from a variety of sources including survey respondents, regional councils and Census' Geography Division which keeps abreast of changes in corporate status. Responses typically approach 100 percent.

III. Data

OMB Number: 0607-0350.

Form Number: C-411.

Type of Review: Regular submission.

Affected Public: State and Local Governments.

Estimated Number of Respondents: 2,000 per year.

Estimated Time Per Response: 15 minutes.

Estimated Total Annual Burden Hours: 500 hours.

Estimated Total Annual Cost: The cost to the respondents is estimated to be $8,255.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 10, 2001.
Madeleine Clayton,
Departmental Paperwork Clearance Officer, Office of the Chief Information Officer.

[FR Doc. 01-20564 Filed 8-14-01; 8:45 am]

BILLING CODE 3510-07-P